INTERNATIONAL TRADE COMMISSION

[Investigation 332-411]

Electric Power Services: Recent Reforms in Selected Foreign Markets

AGENCY: United States International Trade Commission.

ACTION: Institution of investigation and scheduling of public hearing.

EFFECTIVE DATE: January 24, 2000.

SUMMARY: Following receipt of a request on November 23, 1999, from the United States Trade Representative (USTR), the Commission instituted investigation No. 332-411, Electric Power Services: Recent Reforms in Selected Foreign Markets, under section 332(g) of the Tariff Act of 1930 (19 U.S.C. 1332(g)).

FOR FURTHER INFORMATION CONTACT: Information specific to this investigation may be obtained from Mr. Christopher Melly, Project Leader (202-205-3461), Mr. Michael Nunes, Deputy Project Leader (202-205-3462), or Mr. Richard Brown, Chief, Services and Investment Division (202-205-3438), Office of Industries, U.S. International Trade Commission, Washington, DC, 20436. For information on the legal aspects of this investigation, contact William Gearhart of the Office of the General Counsel (202-205-3091). Hearing impaired individuals are advised that information on this matter can be obtained by contacting the TDD terminal on (202) 205-1810.

Background

In her letter dated November 22, 1999, the USTR requested that the Commission, pursuant to section 332(g) of the Tariff Act of 1930, conduct an investigation of the electric power services markets in countries where significant market reform, privatization, and liberalization has occurred or is ongoing. The foreign markets to be examined are: Argentina, Australia, Brazil, Canada, Chile, the European Union, Japan, New Zealand, and Venezuela. As requested, in its report, the Commission will (1) discuss the nature and extent of market reform, privatization, and liberalization undertaken in foreign electricity markets; (2) examine current and evolving conditions of market access, investment, and regulation; and (3) provide, if possible, a listing of common regulatory practices insofar as these exist. For the purpose of this study, electric power services are broadly defined to include core areas such as generation, transmission, and distribution, as well as construction, engineering, consulting, and marketing services as they pertain to the provision of electricity.

The USTR asked that the Commission Furnish its report by November 22, 2000, and that the Commission make the report available to the public in its entirety.

Public Hearing

A public hearing in connection with the investigation will be held at the U.S. International Trade Commission Building, 500 E Street SW, Washington, DC, beginning at 9:30 a.m. on June 6, 2000. All persons shall have the right to appear, by counsel or in person, to present information and to be heard. Requests to appear at the public hearing should be filed with the Secretary, United States International Trade Commission, 500 E Street SW, Washington, DC 20436, no later than 5:15 p.m., May 23, 2000. Any prehearing briefs (original and 14 copies) should be filed not later than 5:15 p.m., May 25, 2000; the deadline for filing post-hearing briefs or statements is 5:15 p.m., June 29, 2000. In the event that, as of the close of business on May 23, 2000, no witnesses are scheduled to appear at the hearing, the hearing will be canceled. Any person interested in attending the hearing as an observer or non-participant may call the Secretary of the Commission (202-205-1806) after May 23, 2000, to determine whether the hearing will be held.

Written Submissions

In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section § 201.6 of the Commission's Rules of Practice and Procedure (19 CFR 201.6). All written submissions, except for confidential business information, will be made available in the Office of the Secretary of the Commission for inspection by interested parties. To be assured of consideration by the Commission, written statements relating to the Commission's report should be submitted to the Commission at the earliest practical date and should be received no later than the close of business on June 29, 2000. All submissions should be addressed to the Secretary, United States International Trade Commission, 500 E Street SW, Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov).

List of Subjects

WTO, GATS, market access, electric power.

Issued: January 24, 2000.
By order of the Commission.
Donna R. Koehnke,
Secretary.

[FR Doc. 00-2324 Filed 2-2-00; 8:45 am]

BILLING CODE 7020-02-P